DEPARTMENT OF HEALTH AND HUMAN SERVICES

Administration for Community Living

Agency Information Collection Activities: Submission for OMB Review; Comment Request; OAA Title III-E Evaluation

AGENCY: Administration for Community Living, HHS.

ACTION: Notice.

SUMMARY: The Administration for Community Living (formerly the Administration on Aging (AoA)) is announcing that the proposed collection of information listed below has been submitted to the Office of Management and Budget (OMB) for review and clearance under the Paperwork Reduction Act of 1995.

DATES: Submit written comments on the collection of information by October 26, 2015.

ADDRESSES: Submit written comments on the collection of information by fax 202.395.6974 to the OMB Desk Officer for ACL, Office of Information and Regulatory Affairs, OMB.

FOR FURTHER INFORMATION CONTACT: Alice-Lynn Ryssman, 202.357.3491

SUPPLEMENTARY INFORMATION: In compliance with PRA (44 U.S.C. 3501-3520), the Administration for Community Living (ACL, formerly the Administration for Aging) has submitted the following proposed collection of information to the Office of Management and Budget (OMB) for review and clearance. The outcome evaluation data collection associated with the Title III-E National Family Caregiver Support Program (NFCSP) is necessary to meet three broad objectives of ACL: (1) To provide information to support program planning, including an analysis of program processes, (2) to develop information about program efficiency and costs, and (3) gauge program effectiveness in assessing community and client needs, targeting and prioritizing, and providing services to family caregivers. The outcome evaluation will examine to what extent do the needs, services, and outcomes of NFCSP caregivers differ from non-NFCSP caregivers over a twelve-month period. As well, where feasible, the individuals supported by these two groups of caregivers will be asked seven short questions about their situation initially and at the end of twelve months, to take into account the care recipients' perceptions of their quality of life and the support for their caregivers.

In response to the 60-day Federal Register Notice related to this proposed data collection and published on November 20, 2013, comments from six individuals and/or organizations were received. Many of the suggestions commented on the length of the survey and eliminating duplicative or cumbersome open-ended questions, efforts have been made to make the questions clearer, reduce the number of open-ended questions, and shorten the estimated time needed for the survey by about 10 percent. In addition, in response to concerns about the views of those receiving care from these caregivers, a very short seven-question survey has been added to ask the caregivers' care recipients about their perceived quality of life and the support needed by their caregivers.

The outcome study will conduct telephone interviews with a randomly sampled group of 1,250 NFCSP caregivers at three points in time (baseline, six months later, and twelve months later), as well as to a comparison group of 1,250 caregivers not receiving NFCSP services at the same three points in time (baseline, six months later, and twelve months later), who will be identified through their care recipients who are receiving other OAA services. Additionally, the care recipients of each group of caregivers will be contacted, as feasible, and asked seven short questions at two points in time (baseline and twelve months later). ACL estimates the burden of this collection of information as follows: 2,513 hours for caregivers receiving NFCSP services, 2,186 hours for caregivers who are not receiving NFCSP services, 400 hours for the NFCSP caregivers' care recipients, and 400 hours for the non-NFCSP caregivers' care recipients, in addition to approximately 63 hours for the local Area Agencies on Aging (AAAs) to help with the respondent selection process, for a Total Burden for Study of 5,562 hours.

The proposed data collection tools may be found on the ACL Web site at http://www.aoa.gov/Program_Results/Outcome_Evaluation_Survey.aspx.

Dated: September 21, 2015.
Kathy Greenlee,
Administrator and Assistant Secretary for Aging.

[FR Doc. 2015-24444 Filed 9-24-15; 8:45 am]

BILLING CODE 4154-01-P